Proclamation 10110 of October 30, 2020

National American History and Founders Month, 2020

By the President of the United States of America

A Proclamation

In the Black Hills of South Dakota stands an enduring tribute to four of our greatest Presidents—George Washington, Thomas Jefferson, Abraham Lincoln, and Teddy Roosevelt. Mount Rushmore symbolizes the proud history of our Nation, a history that began on July 4, 1776, with the revolutionary words written in the Declaration of Independence. This summer, I spoke before this beautiful monument in celebration of Independence Day to call attention to the brilliant vision of our Founding Fathers and their profound, momentous statement that “all men are created equal.” And, earlier this year at the National Archives, the sacred home of the Declaration of Independence, the Constitution, and the Bill of Rights—our Nation's Charters of Freedom—I pledged that our great American heroes will never be forgotten, our schools will teach the story of our Nation as it happened, and the truth of our history will never be erased or rewritten. Throughout this month, we celebrate the incredible history of the United States and commit to continually work toward the promise of a more perfect Union.

The story of our Nation is one of tireless progress toward realizing and defending our founding principles—individual liberty, representative self-government, and equality of opportunity. In the 18th century, the founding generation sacrificed blood and treasure to defend the spark of liberty on this continent, constructing the framework of our new American society. In the 19th century, the mettle of that foundation was tested as Americans took up arms against one another in a struggle that ultimately eradicated the great injustice of slavery from our country, a conflict that, though it left a dark stain on the fabric of our Nation, ultimately strengthened our commitment to freedom and helped us further realize the true promise of the founding. The American 20th century saw great strides in progress for civil rights, as women won the right to vote and timeless voices like Martin Luther King, Jr., illuminated the path toward true equality for Black Americans. Abroad, American service members carried the torch of liberty to those in need, liberating Europe and Asia from fascist oppression and freeing billions of people around the world from the suffocating yoke of communism.

This is the inheritance of today's generation of Americans. A history defined by righteous struggle in service to our founding ideals of liberty and justice for all. A history populated by heroes and warriors for freedom. And a history marked by an unyielding commitment to virtue and principle. This history is what distinguishes our Nation as the most free and just society in the world.

Today, however, a fringe element of radical politicians, media voices, corporate executives, and other activists seek to use their immense power to obscure the ideals of our country, rewrite our Nation's proud history, and desecrate the memory of our Founders. Statues have been torn down and destroyed, violent mobs have masqueraded under the false banner of peaceful protests, and free speech has come under siege in the public square and on online platforms. As one example among many, theoretical frameworks like “Critical Race Theory” have corrupted our United States history and civic education courses in public schools, board rooms, the military, and government agencies, promoting racial division and discrimination. Adherents to Critical Race Theory and other associated ideologies believe that America is an inherently racist and sexist country, defined by oppression and hierarchies of victimhood, rather than freedom and equality. Critical Race Theory and those who promote it seek to strip individual agency from all Americans and instead relegate them into pre-determined categories of belief based on their racial or sexual identity. If Americans are distracted by such theories from studying the true history of our great Nation—its mistakes and its triumphs—we risk the dissolution of our common bonds and we will be weakened as a country. That is why I recently signed an Executive Order that bans executive departments and agencies and Federal contractors from teaching Critical Race Theory, in an effort to prevent the indoctrination of the American people by these dangerous ideologies. Now, more than ever, we must continue to forge an even brighter future for our Nation by preserving its past. As President, I will always honor the great legacy of America's history and its Founders.

Throughout this month, we recommit to protecting the great American story, one of a Nation that has promoted liberty and ensured freedom for millions. We know that when we collectively recognize and cherish our history, we are made stronger as one people. The divine truth our Founders enshrined in the fabric of our Nation—that all people are created equal—will, if we cherish and protect it, ensure the blessings of unparalleled freedom and prosperity for all posterity.

NOW, THEREFORE, I, DONALD J. TRUMP, President of the United States of America, by virtue of the authority vested in me by the Constitution and the laws of the laws of the United States, do hereby proclaim November 2020 as National American History and Founders Month. I call upon the people of the United States to observe this month with appropriate ceremonies and activities.

IN WITNESS WHEREOF, I have hereunto set my hand this thirtieth day of October, in the year of our Lord two thousand twenty, and of the Independence of the United States of America the two hundred and forty-fifth.

[FR Doc. 2020-24739

Filed 11-4-20; 8:45 am]

Billing code 3295-F1-P